COMMODITY FUTURES TRADING COMMISSION

Privacy Act of 1974: System of Records

AGENCY: Commodity Futures Trading Commission.

ACTION: Notice of revised system of records, CFTC-35, Interoffice and Internet E-Mail.

SUMMARY: This notice revises CFTC-35, the Commission's systems of records under the Privacy Act of interoffice and Internet e-mail. The revisions reflect the changes in the maintenance of e-mail records brought about by a change in the agency's computer network. The changes are technical in nature and do not significantly affect the privacy expectations of the individuals on whom records are retrievable.

DATES: May 24, 2000.

FOR FURTHER INFORMATION CONTACT: Stacy Dean Yochum, Office of the Executive Director, (202) 418-5157, Commodity Futures Trading Commission, Three Lafayette Centre, 1155 21st Street NW, Washington, DC 20581, syochum@cftc.gov.

SUPPLEMENTARY INFORMATION: In accordance with the Privacy Act of 1974, 5 U.S.C. 522a, and the Commission's implementing regulations, 17 CFR part 146, the Commission is publishing revisions to its system of records, CFTC-35, Interoffice and Internet E-Mail. The Commission's recent change in operating networks affected the location of the records and the categories of records in the systems, as well as the storage, safeguards, and retention and disposal of the records.

Accordingly, the Commission is giving notice of the following revisions to CFTC-35:

CFTC-35

SYSTEM NAME:

Interoffice and Internet E-Mail

SYSTEM LOCATION:

Mail servers in each system location (Washington, DC, Chicago, New York, and Los Angeles) retain records. Records are backed up nightly onto magnetic tape in all locations. In Washington, DC, the most recent two weeks of tapes are kept in locked boxes and tapes with information covering the prior two weeks are kept at an off-site storage facility. Tapes with information covering the most recent four-week period are kept on-site, in a secured area, in the Chicago, New York and Los Angeles locations.

CATEGORIES OF INDIVIDUALS COVERED BY THE SYSTEM:

All CFTC employees and on-site contractors.

CATEGORIES OF RECORDS IN THE SYSTEM:

Records on the use of the interoffice and Internet e-mail system, including the mailbox name, number of objects in the mailbox, and aggregate size of the mailbox.

AUTHORITY FOR MAINTENANCE OF THE SYSTEM:

5 U.S.C. 301 and section 12(b)(3) of the Commodity Exchange Act, 7 U.S.C. 16(b)(3).

ROUTINE USES OF RECORDS MAINTAINED IN THE SYSTEM:

The records are used by CFTC network administrators who have a need for the records in the performance of their duties. See also the Commission's “General Statement of Routine Uses,” Nos. 1, and 2, Privacy Act Issuances, 1991 Comp., Vol. IV, p. 144. In addition, the records and data, other than the content of individual mailboxes, may also be disclosed as necessary to contractors as necessary for assessment, modification, or maintenance of the e-mail system.

POLICIES AND PRACTICES FOR STORING, RETRIEVING, ACCESSING, RETAINING AND DISPOSING OF RECORDS IN THE SYSTEM

STORAGE:

Records are stored on the mail servers in each CFTC location. Servers are backed up nightly to magnetic tape. In Washington, DC, the most recent two weeks of magnetic tape are kept in a locked box in the Computer Room and the prior two weeks are kept at an off-site storage facility. The entire four weeks of magnetic tape information is kept in unlocked boxes in a secured area in the Chicago, New York and Los Angeles locations.

RETRIEVABILITY:

The information can be retrieved by assigned interoffice or Internet mail address.

SAFEGUARDS:

Network administrators have access to the e-mail information. This access is generally limited to the “header” information described under “Categories of Records.” In addition, the mailbox owner can grant access to objects in the mailbox to others. The tapes are kept in locked storage boxes in Washington, DC, and only network administrators and OIRM management have keys to the locked boxes. In the Chicago, New York and Los Angeles locations, tapes are kept in a secured area. Only designated office personnel have access to the secured area.

RETENTION AND DISPOSAL:

Records on magnetic tape are retained for four weeks, then destroyed as the tape is written over with new information. Records are retained on the mail servers until the sender and receiver delete the information from the e-mail system. Internet e-mail information that is received by the postmaster due to an error in delivery is considered temporary and is destroyed after the problem is corrected. When an employee leaves the Commission, the employee's mailbox is deleted unless the employee or the employee's administrative officer requests that the mailbox be retained in order to recover work-related information.

SYSTEM MANAGER AND ADDRESS:

Network Manager, Commodity Futures Trading Commission, Three Lafayette Centre, 1155 21st Street NW., Washington, DC 20581.

NOTIFICATION PROCESS:

Individuals seeking to determine whether the system of records contains information about themselves, seeking access to records about themselves in the system of records, or contesting the content of records about themselves should address written inquiries to the FOI, Privacy and Sunshine Acts Compliance Staff, Commodity Futures Trading Commission, Three Lafayette Centre, 1155 21st Street NW., Washington, DC 20581.

RECORD ACCESS PROCEDURES:

See “Notification Procedures” above.

CONTESTING RECORDS PROCEDURES:

See “Notification Procedures” above.

RECORD SOURCE CATEGORIES:

Internet e-mail, interoffice e-mail.

Issued in Washington, DC, on May 17, 2000.
By the Commission.
Jean A. Webb,
Secretary of the Commission.

[FR Doc. 00-12920 Filed 5-23-00; 8:45 am]

BILLING CODE 6351-01-M